DEPARTMENT OF THE INTERIOR

National Park Service

Notice of Boundary Revision, Black Canyon of the Gunnison National Park

SUMMARY: This notice announces a revision to the boundary of Black Canyon of the Gunnison National Park to include one parcel of land owned by Ellouise Sanburg, Trustee, and Sanburg Herefords, L.L.L.P. The National Park Service has determined that this boundary revision is necessary for the preservation and protection of the National Park.

DATES: The effective date of this Notice is the date in which it appears in the Federal Register.

FOR FURTHER INFORMATION CONTACT: Superintendent, Black Canyon of the Gunnison National Park, at 102 Elk Creek, Gunnison, Colorado, 81230 or by telephone at 970-641-2337.

SUPPLEMENTARY INFORMATION: Section 7 (c) of the Land and Water Conservation Fund Act of 1965, 16 U.S.C. 4601-9(c)(1), as amended by section 814(b) of the Omnibus Parks and Public Lands Management Act of 1996 (Public Law 104-333), authorizes the Secretary of the Interior to make this boundary revision. This action will add one parcel of land comprised of 198.5 acres of land to the Black Canyon of the Gunnison National Park. The National Park Service proposes to purchase a conservation easement on this parcel. It is located outside the park boundary in the vicinity of Red Rock Canyon north of Bostwick Park Road. The acquisition of the conservation easement is required to maintain the present rural agricultural character of the land in the vicinity of the proposed Red Rock Trailhead.

The above parcel is depicted as tract number 01-152 on land acquisition segment map 01, having drawing number 144-92004, dated August 6, 2002. This map is on file at the National Park Service, Land Resources Program Center, Intermountain Region, Santa Fe, New Mexico, and at the Office of the Superintendent of the Black Canyon of the Gunnison National Park.

Dated: December 13, 2002.
Karen P. Wade,
Director, Intermountain Region.

[FR Doc. 03-6961 Filed 3-21-03; 8:45 am]

BILLING CODE 4310-70-P